DEPARTMENT OF VETERANS AFFAIRS

[OMB Control No. 2900-0619]

Agency Information Collection Activity Under OMB Review (Inquiry Routing & Information System (IRIS)).

AGENCY: Office of Information and Technology, Department of Veterans Affairs.

ACTION: Notice.

SUMMARY: In compliance with the Paperwork Reduction Act (PRA) of 1995 (44 U.S.C. 3501-3521), this notice announces that the Office of Information and Technology (OIT), Department of Veterans Affairs (VA), will submit the collection of information abstracted below to the Office of Management and Budget (OMB) for review and comment. The PRA submission describes the nature of the information collection and its expected cost and burden; it includes the actual data collection instrument.

DATES: Written comments and recommendations on the proposed collection of information should be received on or before January 11, 2017.

ADDRESSES: Submit written comments on the collection of information through Federal Docket Management System (FDMS) at www.Regulations.gov or to Office of Information and Regulatory Affairs, Office of Management and Budget, Attn: VA Desk Officer; 725 17th St. NW., Washington, DC 20503 or sent through electronic mail to oira_submission@omb.eop.gov. Please refer to “OMB Control No. 2900-0619.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0619.”

SUPPLEMENTARY INFORMATION:

Title: Inquiry Routing & Information System (IRIS).

OMB Control Number: 2900-0619.

Type of Review: Revision of a currently approved collection.

Abstract: The IRIS Ask A Question form on the VA Web site's Contact Us link is used by Web site visitors to submit inquiries to locations and business lines across VA to respond to any questions, complaints, suggestions or other issues. An agency may not conduct or sponsor, and a person is not required to respond to a collection of information unless it displays a currently valid OMB control number. The Federal Register Notice with a 60-day comment period soliciting comments on this collection of information was published October 4, 2016, Vol. 81, No. 192, page 68502.

Affected Public: Individuals or households.

Estimated Annual Burden: 66,000 hours.

Estimated Average Burden per Respondent: 10 minutes.

Frequency of Response: Daily.

Estimated Number of Respondents: 33,000 per month.

By direction of the Secretary.
Cynthia Harvey-Pryor,
Program Specialist, Office of Privacy and Records Management, Department of Veterans Affairs.

[FR Doc. 2016-29666 Filed 12-9-16; 8:45 am]

BILLING CODE 8320-01-P